DEPARTMENT OF AGRICULTURE

Agricultural Marketing Service

7 CFR Part 52

[Document Number AMS-FV-15-0049, FV-16-332]

United States Standards for Grades of Canned Vegetables

AGENCY: Agricultural Marketing Service, USDA.

ACTION: Final notice of U.S. grade standards.

SUMMARY: The Agricultural Marketing Service (AMS) of the Department of Agriculture (USDA) is revising 18 U.S. grade standards for canned vegetables issued on or before August 3, 1998. AMS is replacing the two-term grading system (dual nomenclature) with a single term to describe each quality level for the grade standards identified in this document. Terms using the letter grade will be retained and the descriptive term will be eliminated. For example, grade standards using the term “U.S. Grade A” or “U.S. Fancy” will be revised to use only the term “U.S. Grade A.” Likewise, grade standards using the term “U.S. Grade B” or “U.S. Extra Standard” will be revised to use the single term “U.S. Grade B.” These changes will bring the grade standards in line with the present quality levels being marketed today and provide guidance in the effective use of these products. Editorial changes will also be made to the grade standards that conform to recent changes made in other grade standards.

DATES: These grade standards go into effect January 20, 2017.

ADDRESSES: Standardization Branch, Specialty Crops Inspection Division, Specialty Crops Program, Agricultural Marketing Service, U.S. Department of Agriculture, 1400 Independence Avenue SW., Room 0709-South Building; STOP 0247, Washington, DC 20250.

FOR FURTHER INFORMATION CONTACT: Dana N. White, at the address above, by phone (202) 720-5870; fax (202) 690-1527; or email: Dana.White@ams.usda.gov. Copies of the revised U.S. standards for grades for the 18 canned vegetables covered by this document will be available on the Internet at http://www.ams.usda.gov/grades-standards/vegetables.

SUPPLEMENTARY INFORMATION: Section 203(c) of the Agricultural Marketing Act of 1946, as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. The U.S. standards for grades of fruits and vegetables not connected with Federal Marketing Orders or U.S. import requirements no longer appear in the Code of Federal Regulations, but are maintained by USDA, AMS, Specialty Crops Program and are available on the internet at: http://www.ams.usda.gov/grades-standards/vegetables. AMS revised these U.S. Standards for Grades using the procedures that appear in part 36 of title 7 of the Code of Federal Regulations (7 CFR part 36).

BACKGROUND: AMS periodically reviews the grade standards for usefulness in serving the industry. AMS has determined that changes to 18 grade standards covering various canned vegetables are required. More recently developed grade standards use a single term, such as “U.S. Grade A” or “U.S. Grade B,” to describe each level of quality within a grade standard. Older grade standards used dual nomenclature, such as “U.S. Grade A” and “U.S. Fancy,” “U.S. Grade B” and “U.S. Extra Standard,” and “U.S. Grade C” and “U.S. Standard,” to describe the same level of quality. The terms “U.S. Fancy,” “U.S. Extra Standard,” and “U.S. Standard” will be removed and the terms “U.S. Grade A,” “U.S. Grade B,” and “U.S. Grade C” will be used exclusively. AMS proposed editorial changes to these grade standards, i.e., updating addresses to obtain copies of the grade standards, removing specific addresses for licensed suppliers of color standards and inspection aids, and updating Code of Federal Regulations references where applicable. Contact information for current licensed suppliers is available in the Fresh and Processed Equipment Catalog on the AMS Web site at: http://www.ams.usda.gov/grades-standards/how-purchase-equipment-and-visual-aids.

SUPPLEMENTARY INFORMATION: These revisions will provide a format that is consistent with those of other grade standards (75 FR 43141). The following table summarizes the changes made by AMS.

U.S. Standards for grades of canned | Effective date | Change level of quality designation to single term | Other revisions proposed
Asparagus | 06/20/73 | Yes | Update address for standards. Correct Standard of Identity citation.
Beets | 08/03/98 | Yes | Update address for standards.
Carrots | 08/03/98 | Yes | Update address for standards.
Chili Sauce | 10/20/53 | Yes | Update address for standards.
Corn, Cream Style | 07/01/57 | Yes | Update address for standards. Add Standard of Identity citation. Add Latin name.
Hominy | 03/10/58 | Yes | Update address for standards.
Leafy Greens | 09/01/73 | Yes | Update address for standards. Add titles to Tables IV and V. Correct Standard of Identity citation.
Okra | 07/08/57 | Yes | Update address for standards.
Okra and Tomatoes or Tomatoes and Okra | 12/24/57 | Yes | Update address for standards.
Onions | 11/02/57 | Yes | Update address for standards. Add titles for Tables II and III. Add Standard of Identity citation.
Peas and Carrots | 07/20/70 | Yes | Update address for standards.
Peas, Field and Black-eye Peas | 07/01/57 | Yes | Update address for standards. Replace “U.S. Grade D” with “Substandard.”
Pimientos | 10/23/67 | Yes | Update address for standards.
Pumpkin (Squash) | 07/01/57 | Yes | Update address for standards.
Sauerkraut | 05/13/63 | Yes | Update address for standards.
Spinach | 05/08/71 | Yes | Update address for standards. Correct Standard of Identity citation.
Squash (Summer Type) | 05/25/59 | Yes | Update address for standards.
Succotash | 05/24/67 | Yes | Update address for standards. Replace “U.S. Grade D” with “Substandard.” Put “proportion of ingredients” in outline form.

These revisions provide a common language for trade and better reflect the current marketing of fruits and vegetables.

On June 17, 2016, AMS published a Proposed Notice in the Federal Register (81 FR 39596) soliciting comments on replacing the two-term grading system with a single term to describe each quality level for the grade standards identified in this document. Two comments were received by August 16, 2016, the closing date of the public comment period, from one private citizen and one individual associated with a tribal government agency.

The two comments supported the replacement of the two-term grading system with a single term as a positive step forward. USDA stands by its decision to replace the two-term grading system (dual nomenclature) with a single term.

Based on the information gathered, AMS is removing the two-term grading system (dual nomenclature) and making editorial changes to the aforementioned U.S. Standards for Grade. The revision brings these grade standards in line with other recently amended standards and current terminology, and updates the standards to more accurately represent today's marketing practices.

Authority: 7 U.S.C. 1621-1627.

Dated: December 15, 2016.
Elanor Starmer,
Administrator, Agricultural Marketing Service.

[FR Doc. 2016-30619 Filed 12-20-16; 8:45 am]

BILLING CODE 3410-02-P